DEPARTMENT OF COMMERCE

National Oceanic and Atmospheric Administration

RIN 0648-XN81

Marine Mammals; File No. 14341

AGENCY: National Marine Fisheries Service (NMFS), National Oceanic and Atmospheric Administration (NOAA), Commerce.

ACTION: Notice; receipt of application.

SUMMARY: Notice is hereby given that Karen Terio, DVM, PhD, Zoological Pathology Program, College of Veterinary Medicine, University of Illinois, LUMC Room 0745, Building 101, 2160 South First Street, Maywood, IL 60153, has applied in due form for a permit to import marine mammal specimens for scientific research.

DATES: Written, telefaxed, or e-mail comments must be received on or before April 8, 2009.

ADDRESSES: The application and related documents are available for review by selecting “Records Open for Public Comment” from the Features box on the Applications and Permits for Protected Species (APPS) home page, https://apps.nmfs.noaa.gov/index.cfm, and then selecting File No. 14341 from the list of available applications.

These documents are also available upon written request or by appointment in the following office(s):

Permits, Conservation and Education Division, Office of Protected Resources, NMFS, 1315 East-West Highway, Room 13705, Silver Spring, MD 20910; phone (301)713-2289; fax (301)427-2521; and

Northeast Region, NMFS, 55 Great Republic Drive, Gloucester, MA 01930; phone (978)281-9300; fax (978)281-9333.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 14341.

FOR FURTHER INFORMATION CONTACT: Jennifer Skidmore or Kate Swails, (301)713-2289.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), the regulations governing the taking, importing, and exporting of endangered and threatened species (50 CFR 222-226), and the Fur Seal Act of 1966, as amended (16 U.S.C. 1151 et seq.).

The applicant is requesting authorization to import unlimited biological samples from up to 200 individuals per year of the orders Cetacea (all species) and Pinnipedia (with the exception of walruses) from yet to be determined locations outside the U.S. All samples are being imported for diagnostic testing to determine the causes of outbreaks or unusual natural mortalities, investigations into the ecology of diseases in free-ranging animals, or unexpected mortalities in captive populations. All biological specimens would originate from animals found deceased in nature, collected opportunistically during the animals' capture by other researchers possessing permits for such activities, or from specimens legally held in captivity outside the U.S.A. No live animals would be taken from the wild for research. The permit is requested for a period of five years.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: March 3, 2009.
P. Michael Payne,
Chief, Permits, Conservation and Education Division, Office of Protected Resources, National Marine Fisheries Service.

[FR Doc. E9-4901 Filed 3-6-09; 8:45 am]

BILLING CODE 3510-22-S